DEPARTMENT OF TRANSPORTATION

Federal Aviation Administration

14 CFR Part 39

[Docket No. FAA-2004-18993; Directorate Identifier 2004-NM-125-AD; Amendment 39-13781; AD 2004-18-03]

RIN 2120-AA64

Airworthiness Directives; Bombardier Model CL-600-2C10 (Regional Jet Series 700 & 701), and CL-600-2D24 (Regional Jet Series 900) Series Airplanes

AGENCY: Federal Aviation Administration (FAA), DOT.

ACTION: Final rule; correction.

SUMMARY: The FAA is correcting an error in an existing airworthiness directive (AD) that was published in the Federal Register on September 2, 2004 (69 FR 53609). The error resulted in inadvertent reference to inappropriate service information. We are also clarifying reference to a compliance threshold. This AD applies to certain Bombardier Model CL-600-2C10 (Regional Jet Series 700 & 701), and CL-600-2D24 (Regional Jet Series 900) series airplanes. This AD requires revising the airplane flight manual to advise the flightcrew to monitor the fuel quantity in the center fuel tank throughout the flight. This AD also requires repetitive tests to detect a fuel leak between the wing fuel tanks and the center fuel tank; and further related investigative and corrective actions, if necessary. For certain airplanes, this AD also requires installation of flexible hoses and brackets in the fuel feed system. This AD also reduces the compliance times for the repetitive checks, requires replacement of primary fuel feed ejectors with new ejectors, and provides an optional center fuel tank empty procedure.

DATES: Effective September 17, 2004.

ADDRESSES: You can examine the contents of this AD docket on the Internet at http://dms.dot.gov, or in person at the Docket Management Facility, U.S. Department of Transportation, 400 Seventh Street, SW., room PL-401, on the plaza level of the Nassif Building, Washington, DC.

FOR FURTHER INFORMATION CONTACT: Technical information: James Delisio, Aerospace Engineer, Airframe and Propulsion Branch, ANE-171, FAA, New York Aircraft Certification Office, 1600 Stewart Avenue, Suite 410, Westbury, New York 11590; telephone (516) 228-7321; fax (516) 794-5531.

Plain language information: Marcia Walters, marcia.walters@faa.gov.

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Examining the Docket

You can examine the AD docket on the Internet at http://dms.dot.gov, or in person at the Docket Management Facility between 9 a.m. and 5 p.m., Monday through Friday, except Federal holidays.

SUPPLEMENTARY INFORMATION: On August 25, 2004, the FAA issued AD 2004-18-03, amendment 39-13781 (69 FR 53609, September 2, 2004), for certain Bombardier Model CL-600-2C10 (Regional Jet Series 700 & 701), and CL-600-2D24 (Regional Jet Series 900) series airplanes. The AD requires revising the airplane flight manual to advise the flightcrew to monitor the fuel quantity in the center fuel tank throughout the flight. This AD also requires repetitive tests to detect a fuel leak between the wing fuel tanks and the center fuel tank; and further related investigative and corrective actions, if necessary. For certain airplanes, this AD also requires installation of flexible hoses and brackets in the fuel feed system. This AD also reduces the compliance times for the repetitive checks, requires replacement of primary fuel feed ejectors with new ejectors, and provides an optional center fuel tank empty procedure.

As published, the requirements of paragraph (j) of the AD specify that “Within three days after the effective date of this AD, determine the number of total flight hours on each of the two primary fuel feed ejectors having part number (P/N) T99A38-603.” Paragraph (j) is not clear with respect to the action required for an airplane on which fuel feed ejectors having part number T99A38-603 are not installed. Paragraph (j) has been clarified to state that if there are no fuel feed ejectors installed having P/N T99A38-603, no further action is required by the AD.

As published, the compliance time for the requirements of paragraph (k) of the AD specifies a compliance time of “before accumulating 2,000 total flight hours or within 14 days after the effective date of this AD, whichever occurs later, * * *.” To clarify that the threshold compliance time is for the fuel feed ejectors, we have added the words “on the fuel feed ejectors” after the words “before accumulating 2,000 total flight hours.”

As published, the requirements of paragraph (m) of the AD inadvertently specify performing certain requirements in accordance with Part A of the Accomplishment Instructions of CRJ 700/900 Regional Jet (Bombardier) ASB 670BA-28-025, Revision A, dated December 15, 2003. Reference to that service information in paragraph (m) of the AD is incorrect and has been removed. As discussed in the “Differences” section of the AD, the Canadian airworthiness directive specifies that the pilots receive a briefing on the procedure in use for the leak check. The AD does not require a pilot briefing, since the pre-flight procedures associated with performing the leak check should be accomplished by appropriate maintenance personnel. We have received reports that the intent of paragraph (m) of the AD is not clear. To provide clarification of paragraph (m) of the AD, a statement has been added to specify that the requirements of paragraph (m) must be performed by appropriate maintenance personnel.

No other part of the regulatory information has been changed; therefore, the final rule is not republished in the Federal Register.

The effective date of this AD remains September 17, 2004.

§ 39.13 [Corrected]

On page 53612, in the third column, paragraph (j) of AD 2004-18-03 is corrected to read as follows:

* * * * *

(j) Within three days after the effective date of this AD, determine the number of total flight hours on each of the two primary fuel feed ejectors having part number (P/N) T99A38-603. If no primary fuel feed ejector having P/N T99A38-603 is installed, no further action is required by this AD.

* * * * *

On page 53613, in the first column, paragraph (k) of AD 2004-18-03 is corrected to read as follows:

* * * * *

(k) Except as stated in paragraph (l) of this AD, before accumulating 2,000 total flight hours on the fuel feed ejector, or within 14 days after the effective date of this AD, whichever occurs later, begin doing the actions specified in paragraph (m) or (p) of this AD. Accomplishing the actions specified in paragraph (m) or (p) of this AD ends the leak test (check) requirements of paragraph (h) of this AD.

* * * * *

On page 53613 in the first column, paragraph (m) of AD 2004-18-03 is corrected to read as follows:

* * * * *

(m) Once a day, before the first flight of the day: With both engines operating at ground idle or taxi thrust, open both L&R XFER SOV circuit breakers, 1N9 and 2P8, and monitor the fuel quantity of the center fuel tank for five minutes. For the daily check, the fuel quantity in the center fuel tank must be 4,000 pounds or less. This daily check must be performed by appropriate maintenance personnel.

* * * * *

Issued in Renton, Washington, on October 15, 2004.
Kalene C. Yanamura,
Acting Manager, Transport Airplane Directorate, Aircraft Certification Service.

[FR Doc. 04-23927 Filed 10-25-04; 8:45 am]

BILLING CODE 4910-13-P